DEPARTMENT OF HOMELAND SECURITY

Coast Guard

[Docket No. USCG-2011- 0905]

Towing Safety Advisory Committee; Meeting

AGENCY: Coast Guard, DHS.

ACTION: Notice of Federal Advisory Committee meeting.

SUMMARY: The Towing Safety Advisory Committee (TSAC) will hold a public meeting on Thursday, October 20, 2011, in Newport News, Virginia. Two TSAC sub-committees will meet the day before, October 19, 2011.

DATES: Two Towing Safety Advisory Committee Sub-committees will conduct a meeting, open to the public, on Wednesday, October 19, 2011, from 8 a.m. to 5 p.m. The Towing Safety Advisory Committee (TSAC) will conduct a public meeting Thursday, October 20, 2011, from 8:30 a.m. to 4 p.m.; both meetings will be held in Newport News, Virginia. Please note that either meeting may close early if the committee has completed its business. Written comments must be submitted no later than October 7, 2011.

ADDRESSES: The meetings will be held at The Point Plaza Suites, 950 J. Clyde Morris Blvd., Newport News, VA 23601. Hotel Web site: http://www.pointplazasuites.com/.

To facilitate public participation, we are inviting public comment on the issues to be considered by the committee. Written comments must be identified by Docket No. USCG-2011- 0905 and submitted by one of the following methods:

• Federal Rulemaking Portal: http://www.regulations.gov. Follow the instructions for submitting comments.

• Mail: Mail: Docket Management Facility (M-30), U.S. Department of Transportation, West Building Ground Floor, Room W12-140, 1200 New Jersey Avenue, SE., Washington, DC 20590- 0001. We encourage use of electronic submissions because security screening may delay the delivery of mail.

• Fax: 202-493-2251.

• Hand delivery: Same as mail address above, between 9 a.m. and 5 p.m., Monday through Friday, except Federal holidays. The telephone number is 202-366-9329.

• To avoid duplication, please use only one of these methods. For instructions on submitting comments, see the “Public Participation and Request for Comments” portion of the SUPPLEMENTARY INFORMATION section below.

FOR FURTHER INFORMATION CONTACT: Mr. Michael J. Harmon, Alternate Designated Federal Officer (ADFO), TSAC; U.S. Coast Guard Headquarters, CG-5222, Vessel and Facilities Operating Standards Division; telephone (202) 372-1427, fax (202) 372-1926, or e-mail at: Michael.J.Harmon@USCG.MIL.

SUPPLEMENTARY INFORMATION: Notice of this meeting is given under the Federal Advisory Committee Act, 5 U.S.C. App. (Pub. L. 92-463) as amended (FACA). This Committee is established in accordance with and operates under the provisions of the FACA. It was established under the authority of 33 U.S.C. 1231a and advises, consults with, and makes recommendations to the Secretary of the Department of Homeland Security (DHS) on matters relating to shallow-draft inland and coastal waterway navigation and towing safety. TSAC may complete specific assignments such as studies, inquiries, workshops, and fact finding in consultation with individuals and groups in the private sector and/or with state and local government jurisdictions in compliance with FACA.

Agenda—October 19, 2011 TSAC Sub-Committee Meetings

The agenda for the October 19, 2011 TSAC sub-committee meeting (open to the public) is as follows:

(1) TSAC Subcommittee work-group on Task Statement 08-01, the development of recommendations for the revision of NVIC 04-01 “Licensing and Manning for Officers of Towing Vessels.”

(2) Sub-committee review of the Notice of Proposed Rulemaking (NPRM) for Inspection of Towing Vessels with particular emphasis on the incorporation of TSAC recommendations submitted under Task Statement 04-03.

Agenda—October 20, 2011 Public Meeting

The agenda for the October 20, 2011 TSAC public meeting is as follows:

(1) Report on National Maritime Center (NMC) activities from NMC Commanding Officer.

(2) Report from CG-5431, Office of Vessel Activities, and the Towing Vessel National Center of Expertise.

(3) Subcommittee report on Task Statement 08-01, the review and recommendations for the revision of NVIC 04-01 “Licensing and Manning for Officers of Towing Vessels.”

(4) Subcommittee report on the Notice of Proposed Rulemaking for Inspection of Towing Vessels and TSAC involvement through Task Statement 04-03.

(5) Public comment period.

Public Participation

To facilitate public participation, we are inviting public comment on the issues to be considered by the committee. Please note that regarding—

• Agenda Item 3, a copy of NVIC 04-01 is available in the docket.

• Agenda Item 4, on August 11, 2011, the Coast Guard published a notice of proposed rulemaking entitled “Inspection of Towing Vessels” (76 FR 49976; http://www.gpo.gov/fdsys/pkg/FR-2011-08-11/pdf/2011-18989.pdf).

Written comments related to this TSAC meeting must be identified by Docket No. USCG-2011-0905 and submitted by one of the methods specified in ADDRESSES. Written comments received will be posted without alteration at http://www.regulations.gov, including any personal information provided. Anyone can search the electronic form of comments received into the docket by the name of the individual submitting the comment (or signing the comment, if submitted on behalf of an association, business, labor union, etc.). You may review a Privacy Act notice regarding our public dockets in the January 17, 2008, issue of the Federal Register (73 FR 3316). For access to the docket to read background documents or comments received in response to this notice, go to http://www.regulations.gov, insert USCG-2011-0905 in the Keyword ID box, press Enter, and then click on the item you are interested in viewing.

An opportunity for public oral comment will be provided during the TSAC public meeting on October 20, 2011, as the final agenda item. Speakers are requested to limit their comments to 5 minutes. Please note that the public oral comment period may end before 5 p.m. if all of those wishing to comment have done so.

For information on facilities or services for individuals with disabilities or to request special assistance at the public meeting, contact Mr. Michael J. Harmon at the telephone number or e-mail address indicated under the FOR FURTHER INFORMATION CONTACT section of this notice.

Minutes

Minutes from the meeting will be available for the public to review within 30 days following the close of the meeting and can be accessed from the Coast Guard Homeport Web site http://homeport.uscg.mil.

Dated: September 19, 2011.
J.G. Lantz,
Director of Commercial Regulations and Standards.

[FR Doc. 2011-24580 Filed 9-23-11; 8:45 am]

BILLING CODE 9910-04-P